DEPARTMENT OF TRANSPORTATION

Federal Motor Carrier Safety Administration

Availability of Grant Program Funds for Commercial Vehicle Information Systems and Networks (CVISN) Program

AGENCY: Federal Motor Carrier Safety Administration (FMCSA), DOT.

ACTION: Notice of FY 2008 Grant Funding Opportunity.

SUMMARY: FMCSA announces that it has published an opportunity to apply for FY 2008 Commercial Vehicle Information Systems and Networks (CVISN) Deployment grant funding on the grants.gov Web site (http://www.grants.gov).

DATES: FMCSA will initially consider funding of applications submitted by qualified applicants on or before April 15, 2008. If additional funding remains available, applications submitted after April 15, 2008 will be considered on a case-by-case basis. Funds will not be available for allocation until such time as the FY 2008 U.S. Department of Transportation appropriations legislation is passed and signed into law. Funding is subject to reductions resulting from obligation limitations or rescissions as specified in Safe, Accountable, Flexible, Efficient Transportation Efficiency Act: A Legacy for Users (SAFETEA-LU) or other legislation.

FOR FURTHER INFORMATION CONTACT: Information on the grant, application process, and additional contact information is available at the grants.gov Web site (http://www.grants.gov). General information about the CVISN grant is available in The Catalog of Federal Domestic Assistance (CFDA) which can be found on the Internet at http://www.cfda.gov. The CFDA number for CVISN is 20.237. You also may contact Ms. Julie Lane, Federal Motor Carrier Safety Administration, Office of Analysis, Research and Technology, at julie.lane@dot.gov, 202-385-2391 or Mr. Quon Kwan at quon.kwan@dot.gov, 202-385-2389, 1200 New Jersey Avenue, SE., Washington, DC 20590. Office hours are from 8 a.m. to 4:30 p.m., ET, Monday through Friday, except Federal holidays.

SUPPLEMENTARY INFORMATION: The Commercial Vehicle Information Systems and Networks (CVISN) grant funding is authorized by Section 4126 of SAFETEA-LU. The expected level of funding for CVISN in FY 2008 is $25,000,000. This is a discretionary grant program that provides funding for States and the District of Columbia to deploy, operate, and maintain elements of their CVISN programs, including commercial vehicle, commercial driver, and carrier-specific information systems and networks. The agency in each State and the District of Columbia that is designated as the primary agency responsible for the development, implementation, and maintenance of CVISN-related systems is eligible to apply for grant funding.

Applicants must be registered with grants.gov to apply for funding. Applicants who have not previously registered with grants.gov should visit: http://www.grants.gov/applicants/get_registered.jsp. Registration with grants.gov may take two to five days before the system will allow access to the grant application package. Applicants must download the grant application package, complete the grant application package, and submit the completed grant application package on the Internet at http://www.grants.gov/applicants/apply_for_grants.jsp.

Issued on: November 29, 2007.
Terry Shelton,
Associate Administrator for Research and Information Technology.

[FR Doc. E7-23783 Filed 12-6-07; 8:45 am]

BILLING CODE 4910-EX-P